DEPARTMENT OF STATE

22 CFR Part 41

[Public Notice 3399]

Documentation of Nonimmigrants Under the Immigration and Nationality Act, as Amended—Addition of Department of Labor for Approval of Certain Nonimmigrant Petitions

AGENCY: Department of State.

ACTION: Interim rule.

SUMMARY: This rule adds the Department of Labor as the source of approved petitions to accord the status of temporary agricultural workers, H-2A, in lieu of the Immigration and Naturalization Service (INS).

DATES: This interim rule is effective November 13, 2000. Written comments are invited and must be received on or before October 30, 2000.

ADDRESSES: Written comments may be submitted, in duplicate, to the Chief, Legislation and Regulations Division, Visa Services, Department of State, Washington, DC 20520-0106.

FOR FURTHER INFORMATION CONTACT: H. Edward Odom, Chief, Legislation and Regulations Division, Visa Services, Department of State, Washington, DC 20520-0106, (202) 663-1204, e-mail odomhe@state.gov, or fax at (202) 663-3898.

SUPPLEMENTARY INFORMATION: The current regulation relating to temporary workers, at 22 CFR 41.53(a)(2), requires receipt by a consular officer of a petition approved by the INS (or notification of an INS-approved extension of stay in H status) as a basis for the issuance of a temporary worker visa to an otherwise eligible alien. This interim rule amends that regulation to accord with new INS and Department of Labor (DOL) regulations. They reflect a recent INS delegation to the Department of Labor of the sole authority to approve (or disapprove) petitions filed to accord the status of temporary agricultural worker on certain aliens. This interim rule will permit consular officers to accept petitions in this category approved by the Department of Labor. The amendments in this rule consist of an insert relating to the DOL approval of such petitions in both 22 CFR 41.53(a)(2) and 41.53(b).

Regulatory Analysis and Notices

Administrative Procedure Act

The Department is publishing this rule as an interim rule, with a 60-day provision for public comments, based on the “good cause” exceptions set forth at 5 U.S.C. 553(b)(3)(B) and 553(d)(3). The change in INS and DOL regulations will become effective on November 13, 2000, as will this rule. That change simplifies and expedites procedures which benefit all employers of temporary agricultural workers, and therefore is in the interest of the United States. This rule gives consular effect to that change. The substance of this rule results solely from actions taken by the INS and DOL, over which the Department has no control.

Regulatory Flexibility Act

Pursuant to section 605 of the Regulatory Flexibility Act, the Department has assessed the potential impact of this rule, and the Assistant Secretary for Consular Affairs hereby certifies that it is not expected to have a significant economic impact on a substantial number of small entities and will benefit those that engage temporary agricultural workers.

Unfunded Mandates Reform Act of 1995

This rule will not result in the expenditure by State, local and tribal governments, in the aggregate, or by the private sector, of $100 million in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

The Department of State does not consider this rule to be a “significant regulatory action” under Executive Order 12866, section 3(f), Regulatory Planning and Review, and the Office of Management and Budget has waived its review process under section (6)(a)(3)(A).

Executive Order 131332

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

This rule does not impose any new reporting or record-keeping requirements subject to the Paperwork Reduction Act, 44 U.S.C. Chapter 35.

List of Subjects in 22 CFR Part 41

Aliens, Passports and visas.

Accordingly, the Department of State amends 22 CFR Chapter I as set forth below.

PART 41—[AMENDED]

1. The authority citation for part 41 continues to read as follows:

Authority: 8 U.S.C. 1104

§ 41.53 [AMENDED]

2. Amend Section 41.53 as follows:

a. In paragraph (a)(2), insert “, or by the Department of Labor in the case of temporary agricultural workers” following the phrase “approval by INS.”

b. In paragraph (b), insert “or by the Department of Labor” following “Immigration and Naturalization Service.”

Dated: July 27, 2000.
Maura Harty,
Acting Assistant Secretary for Consular Affairs, Department of State.

[FR Doc. 00-22028 Filed 8-28-00; 8:45 am]

BILLING CODE 4710-06-U